DEPARTMENT OF TRANSPORTATION

Pipeline and Hazardous Materials Safety Administration

[Docket: RSPA-01-8663]

Request for Public Comments and Office of Management and Budget (OMB) Approval of an Existing Information Collection (2137-0047)

AGENCY: Pipeline and Hazardous Materials Safety Administration (PHMSA), Department of Transportation (DOT).

ACTION: Notice.

SUMMARY: This notice seeks public comment on the need for PHMSA to collect paperwork information from hazardous liquid pipeline operators. The mission of PHMSA is to ensure the safe, reliable, and environmentally sound operation of the nation's approximately 154,000 miles of hazardous liquid pipelines. The requested paperwork will ensure that PHMSA can identify any trends in hazardous liquid pipeline safety and share it with the stakeholders for effective inspection programs, minimizing incidents. This notice is published (pursuant to the Paperwork Reduction Act of 1995) to measure the need for the paperwork collection from the hazardous liquid pipeline operators, to find ways to minimize the burden on operators, to find ways to enhance the quality of the collected information, and to verify the accuracy of PHMSA's estimate of the burden (measured in work hours) on private entities. This notice also seeks to renew the existing approval from OMB for this paperwork collection.

DATES: Comments on this notice must be received by May 16, 2005 to be assured of consideration.

ADDRESSES: You may submit written comments to the docket by any of the following methods:

• Mail: Dockets Facility, U.S. Department of Transportation, Room PL-401, 400 Seventh Street, SW., 20590-0001. Anyone wanting confirmation of mailed comments must include a self-addressed stamped postcard.

• Hand delivery or courier: Room PL-401, 400 Seventh Street, SW., Washington, DC. The Dockets Facility is open from 10 am to 5 pm, Monday through Friday, except Federal holidays.

• Web site: Go to http://dms.dot.gov, click on “Comments/Submissions” and follow instructions at the site.

All written comments should identify the docket number and notice number stated in the heading of this notice.

Docket access. For copies of this notice or other material in the docket, you may contact the Dockets Facility by phone (202-366-9329) or visit the facility at the above street address. For Web access to the dockets to read and download filed material, go to http://dms.dot.gov/search. Then type in the last four digits of the docket number shown in the heading of this notice, and click on “Search.”

Anyone can search the electronic form of all comments filed in any of our dockets by the name of the individual submitting the comment (or signing the comment, if submitted for an association, business, labor union, etc.). You may review DOT's complete Privacy Act Statement in the April 11, 2000 issue of the Federal Register (65 FR 19477) or go to <http://dms.dot.gov>.

Interested persons are invited to send comments regarding the burden estimated or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

FOR FURTHER INFORMATION CONTACT: Roger Little, Office of Pipeline Safety, PHMSA, DOT, 400 Seventh Street, SW., Washington, DC 20590 (202) 366-4569 or by e-mail at Roger.Little@ops.dot.gov

SUPPLEMENTARY INFORMATION: Pursuant to the Pipeline Safety Law (49 U.S.C. Chapter 601), PHMSA shares responsibility for inspecting and overseeing the nation's pipelines with State pipeline safety offices. Regulations for enforcing this legislation are found in 49 CFR Part 195, “Transportation of Hazardous Liquids by Pipeline.” These regulations include recordkeeping requirements for hazardous liquid pipeline operators to submit accident reports. Both Federal and State regulators depend on accident reports to manage inspection programs and to identify trends in hazardous liquid pipeline safety. The importance of accident data and data quality are repeatedly emphasized by Congress, the National Transportation Safety Board, and DOT's Office of Inspector General. The current OMB approval for accident reporting and recordkeeping requirements for hazardous liquid pipeline operators is scheduled to expire on April 30, 2005. PHMSA would like to continue to collect vital information on accidents on these hazardous liquid pipelines to fulfill its statutory mandates.

As used in this notice, ‘information collection’ and ‘paperwork collection’ are synonymous, and include all work related to preparing and disseminating information related to this recordkeeping requirement including completing paperwork, gathering information and conducting telephone calls.

Type of Information Collection Request: Renewal of Existing Collection.

Title of Information Collection: Certification and Agreement Forms for the Gas and Hazardous Liquid Pipeline Safety Program.

OMB Approval Number: 2137-0047.

Frequency: Annually, and as needed.

Use: This collection is used by PHMSA to ensure its statutory mandates for hazardous liquid pipeline safety.

Estimated Number of Respondents: 200.

Respondents: Hazardous liquid pipeline operators.

Total Annual Hours Requested: 51,011.

Issued in Washington, DC, on March 7, 2005.
Theodore L. Willke,
Deputy Associate Administrator for Pipeline Safety.

[FR Doc. 05-5191 Filed 3-15-05; 8:45 am]

BILLING CODE 4910-60-P